TENNESSEE VALLEY AUTHORITY

Approval of Construction in the Tennessee River System; Regulation of Structures; Residential Related Use on TVA-controlled Residential Access Shoreland; Effective Date of Information Collection Requirements Approved by the Office of Management and Budget

AGENCY: Tennessee Valley Authority (TVA).

ACTION: Notice.

This notice is provided in accordance with Office of Management and Budget (OMB) regulations governing the approval of information collection requirements contained in a recently published final rule (40 CFR 1320.11). On August 7, 2003, TVA published in the Federal Register (68 FR 46930) a final rule amending TVA's regulations under section 26a of the TVA Act governing the construction, operation, or maintenance of any dam, appurtenant works, or other obstructions affecting navigation, flood control, or public lands or reservations along or in the Tennessee River or any of its tributaries. Except for information collection requirements, which had not yet been approved by OMB, the rule's effective date was established as September 8, 2003. TVA was informed by OMB on August 14, 2003 that the information collection requirements contained in the final rule have been approved. The OMB Control Number is 3316-0060, and the expiration date is August 31, 2006. Accordingly, those requirements are effective together with the other requirements of the final rule on September 8, 2003.

DATES: The information collection requirements contained in the final rule published in the Federal Register by TVA on August 7, 2003, are effective September 8, 2003.

FOR FURTHER INFORMATION CONTACT: Wilma H. McCauley, Tennessee Valley Authority, 1101 Market Street (EB 5B), Chattanooga, Tennessee 37402-2801; (423) 751-2523, whmccauley@tva.gov. (SC: 000V7DC).

Jacklyn J. Stephenson,
Senior Manager, Enterprise Operations, Information Services.

[FR Doc. 03-22887 Filed 9-8-03; 8:45 am]

BILLING CODE 8120-08-P